DEPARTMENT OF DEFENSE

GENERAL SERVICES ADMINISTRATION

NATIONAL AERONAUTICS AND SPACE ADMINISTRATION

48 CFR Parts 4 and 19

[FAC 2022-08; Item V; Docket No. FAR-2022-0052; Sequence No. 3]

Federal Acquisition Regulation; Technical Amendments

AGENCY: Department of Defense (DoD), General Services Administration (GSA), and National Aeronautics and Space Administration (NASA).

ACTION: Final rule.

SUMMARY: This document makes amendments to the Federal Acquisition Regulation (FAR) in order to address an internal administrative action.

DATES: Effective September 23, 2022.

FOR FURTHER INFORMATION CONTACT: Ms. Lois Mandell, Regulatory Secretariat Division (MVCB), at 202-501-4755 or GSARegSec@gsa.gov. Please cite FAC 2022-08, Technical Amendments.

SUPPLEMENTARY INFORMATION: This document makes administrative changes to 48 CFR parts 4 and 19. The date change is to provide additional time to implement the policy addressing the assignment of North American Industry Classification System codes to orders placed under multiple award contracts, as covered by changes made by FAR Case 2014-002 Set-Asides Under Multiple Award Contracts, 85 FR 11746.

List of Subjects in 48 CFR Parts 4 and 19

Government procurement.

William F. Clark,
Director, Office of Government-wide Acquisition Policy, Office of Acquisition Policy, Office of Government-wide Policy.

Therefore, DoD, GSA, and NASA amend 48 CFR parts 4 and 19 as set forth below:

1. The authority citation for 48 CFR parts 4 and 19 continues to read as follows:

Authority: 40 U.S.C. 121(c); 10 U.S.C. chapter 137; and 51 U.S.C. 20113.

PART 4—ADMINISTRATIVE AND INFORMATION MATTERS

4.1202 [Amended]

2. Amend section 4.1202 by removing from paragraph (a) introductory text the date “October 1, 2022” and adding the date “October 1, 2025” in its place.

PART 19—SMALL BUSINESS PROGRAMS

19.102 [Amended]

3. Amend section 19.102 by removing from paragraphs (b)(2)(i) and (b)(2)(ii) introductory text the date “October 1, 2022” and adding the date “October 1, 2025” in their places, respectively.

19.309 [Amended]

4. Amend section 19.309 by removing from paragraphs (a)(3) and (c)(2) the date “October 1, 2022” and adding the date “October 1, 2025” in their places, respectively.

[FR Doc. 2022-20345 Filed 9-22-22; 8:45 am]

BILLING CODE 6820-EP-P